DEPARTMENT OF THE TREASURY

Office of Thrift Supervision

[AC-24 OTS Nos. 04246 and H4776]

Home Federal Savings and Loan Association, Ashland, KY; Approval of Conversion Application

Notice is hereby given that on July 11, 2011, the Office of Thrift Supervision approved the application of Home Federal Savings and Loan Association, Ashland, Kentucky, to convert to the stock form of organization. Copies of the application are available for inspection by appointment (phone number: (202) 906-5922 or e-mail: public.info@ots.treas.gov) at the Public Reading Room, 1700 G Street, NW., Washington, DC 20552, and the OTS Southeast Regional Office, 1475 Peachtree Street, NE., Atlanta, Georgia 30309.

Dated: July 11, 2011.
By the Office of Thrift Supervision.
Ira L. Mills,
Federal Register Liaison.

[FR Doc. 2011-17876 Filed 7-14-11; 8:45 am]

BILLING CODE 6720-01-P